DEPARTMENT OF TRANSPORTATION

Federal Transit Administration

Transfer of Federally Assisted Land or Facility

AGENCY: Federal Transit Administration, DOT

ACTION: Notice of intent to transfer federally assisted land or facility.

SUMMARY: Section 5334(g) of the Federal Transit Laws, as codified, 49 U.S.C. 5301, et seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the City and County of Honolulu Department of Transportation Services intends to transfer a vacant parcel of land without structures to Honolulu's Department of Facility Maintenance to use as a refueling station for city vehicles. The parcel was formerly used as a bus terminus facility and consists of approximately 12,800 square feet of land fronting Umi Street in Honolulu, Hawaii across the street from the Kalihi Shopping Center situated within an area zoned IMX-1 for industrial-commercial mixed use.

EFFECTIVE DATE: Any Federal agency interested in acquiring the land or facility must notify the FTA Region IX Office of its interest by November 1, 2002.

ADDRESSES: Interested parties should notify the Regional Office by writing to Leslie T. Rogers, Regional Administrator, Federal Transit Administration, 201 Mission Street, Suite 2210, San Francisco, CA 94105.

FOR FURTHER INFORMATION CONTACT: Edward Carranza, Director of Office of Program Management at (415) 744-3118.

SUPPLEMENTARY INFORMATION:

Background

49 U.S.C. section 5334(g) provides guidance on the transfer of capital assets. Specifically, if a recipient of FTA assistance decides an asset acquired under this chapter at least in part with that assistance is not longer needed for the purpose for which it was acquired, the Secretary of Transportation may authorize the recipient to transfer the asset to a local government authority to be used for a public purpose with no further obligation to the Government. 49 U.S.C. section 5334(g)(1).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. section 5334(G)(1)(D) of the Federal Transit Laws. Accordingly, FTA hereby provides notice of the availability of the land or facility further described below. Any Federal agency interested in acquiring the affected land or facility should promptly notify the FTA.

If no Federal agency is interested in acquiring the existing land or facility, FTA will make certain that the other requirements specified in 49 U.S.C. section 5334(g)(1)(A) through (C) are met before permitting the asset to be transferred.

Additional Description of Land or Facility

The property is an unused, vacant but terminus, consisting of an approximately 12,800 square foot parcel of land fronting Umi Street in Honolulu, Hawaii. The property is situated within an area zoned IMX-1 for industrial-commercial mixed use. The parcel is located across the street from the Kalihi Shopping Center and a one-family housing unit. A one-family housing unit to the north and Verizon Hawaii's property to the east and south border it. Office buildings are on Verizon Hawaii's site.

The Umi Street property was previously used as a municipal transit bus terminus. It is presently vacant without any building structures. An existing concrete pavement bus turnaround driveway is situated on the front half of the property. The concrete pavement is in good condition. The rear portion of the parcel does not have any improvements and is overgrown with vegetation. The property frontage along Umi Street is open. A concrete block wall and chain link fence separates the property's perimeter adjoining the residential and Verizon Hawaii properties.

Issued on: September 16, 2002.
Leslie T. Rogers,
Regional Administrator.

[FR Doc. 02-25046 Filed 10-1-02; 8:45 am]

BILLING CODE 4910-57-M